DEPARTMENT OF COMMERCE

Census Bureau

[Docket Number: 230206-0038]

Estimates of the Voting Age Population for 2022

AGENCY: Census Bureau, Commerce.

ACTION: General notice announcing population estimates.

SUMMARY: This notice announces the voting age population estimates as of July 1, 2022 for each state and the District of Columbia. We are providing this notice in accordance with the 1976 amendment to the Federal Election Campaign Act.

FOR FURTHER INFORMATION CONTACT: Karen Battle, Chief, Population Division, U.S. Census Bureau, 4600 Silver Hill Road, Washington, DC 20233. Phone: 301-763-2071. Email: Karen.Battle@census.gov.

SUPPLEMENTARY INFORMATION: Under the requirements of the 1976 amendment to the Federal Election Campaign Act, Title 52, United States Code, Section 30116(e), I hereby give notice that the estimates of the voting age population for July 1, 2022 for each state and the District of Columbia are as shown in the following table.

Estimates of the Population of Voting Age for Each State and the District of Columbia: July 1, 2022
Area | Population 18 and over | Area | Population 18 and over
United States | 260,836,730
Alabama | 3,962,734 | Missouri | 4,813,049
Alaska | 557,060 | Montana | 889,114
Arizona | 5,770,187 | Nebraska | 1,491,246
Arkansas | 2,348,518 | Nevada | 2,487,994
California | 30,523,315 | New Hampshire | 1,142,307
Colorado | 4,624,351 | New Jersey | 7,267,590
Connecticut | 2,895,175 | New Mexico | 1,653,831
Delaware | 810,269 | New York | 15,687,863
District of Columbia | 547,328 | North Carolina | 8,404,094
Florida | 17,948,469 | North Dakota | 596,486
Georgia | 8,402,753 | Ohio | 9,193,508
Hawaii | 1,142,870 | Oklahoma | 3,066,654
Idaho | 1,475,629 | Oregon | 3,403,149
Illinois | 9,861,901 | Pennsylvania | 10,347,543
Indiana | 5,263,114 | Rhode Island | 889,822
Iowa | 2,476,028 | South Carolina | 4,164,762
Kansas | 2,246,318 | South Dakota | 690,659
Kentucky | 3,507,735 | Tennessee | 5,513,202
Louisiana | 3,528,548 | Texas | 22,573,234
Maine | 1,137,442 | Utah | 2,449,192
Maryland | 4,818,071 | Vermont | 532,307
Massachusetts | 5,644,540 | Virginia | 6,816,709
Michigan | 7,924,418 | Washington | 6,139,213
Minnesota | 4,423,022 | West Virginia | 1,423,234
Mississippi | 2,261,996 | Wisconsin | 4,646,910
|  | Wyoming | 451,267
Source: U.S. Census Bureau, Population Division, Vintage 2022 Population Estimates.

Gina Raimondo, Secretary, Department of Commerce, certified these estimates for the Federal Election Commission.

Robert L. Santos, Director, Census Bureau, approved the publication of this Notice in the Federal Register.

Dated: March 28, 2023.
Shannon Wink,
Program Analyst, Policy Coordination Office, U.S. Census Bureau.

[FR Doc. 2023-06717 Filed 3-30-23; 8:45 am]

BILLING CODE 3510-07-P